ENVIRONMENTAL PROTECTION AGENCY

[FRL-6991-4]

Draft Great Lakes Strategy of the Great Lakes Water Quality Agreement

AGENCY: Environmental Protection Agency.

ACTION: Notice of availability, public meetings and the opportunity to comment.

SUMMARY: Pursuant to the Great Lakes Water Quality Agreement of 1972, as amended in 1987, federal, state and tribal partners have drafted a new Great Lakes Strategy (The Strategy). The Strategy is a concise, high-level statement of basin wide priorities and activities, reflecting the current state of the Great Lakes basin ecosystem and key environmental goals for the future, so that a unified approach to implementation can be carried out by a diverse set of federal, state, and tribal agencies.

The Strategy presents Great Lakes basin issues under four broad categories: (1) Chemical Integrity: Reducing and Eliminating the Threat of Toxic Pollution and Excess Nutrients, (2) Physical Integrity: Improving Land Use, Water Quantity Management, and Habitat Protection, (3) Biological Integrity: Protecting Human Health and the Ecosystem's Species, and (4) Working Together: Effectively Coordinating Programs and Resources to Ensure The Great Lakes are Protected and Restored.

DATES: A draft of the Strategy will be made available to the public by June 1, 2001.

Comment Period: Comments on the Strategy must be submitted no later than July 31, 2001.

Public Meetings: Public Meetings on the Strategy will be held on the dates and at the locations listed below:

Monday, June 25, 2001

Location: Duluth, MN, MPCA Duluth Office, 525 Lake Avenue South, Suite 400, Duluth, MN 55802

Time: 3 p.m.-8 p.m.

Wednesday, June 27, 2001

Location: Detroit, MI,

Southeast Michigan Council of Governments, 535 Griswold Street, Suite 300, Detroit, MI 48226

Time: 3 p.m.-8 p.m.

Thursday, June 28, 2001 Niagara University, Niagara Falls, NY 14109, Dunleavy Hall, Rm 127.

Time: 3 p.m.-8 p.m.

Monday, July 2, 2001

Location: Chicago, IL, USEPA, Region 5, 77 W. Jackson Blvd (Lake Michigan Conference Room), Chicago, IL 60604

Time: 12 p.m.-5.p.m.

ADDRESSES: The Strategy can be found on the internet at the following address: http://www.epa.gov/glnpo/. Commenters may transmit their comments electronically by following the directions provided on the web site, or may send written comments to Ted Smith at the following address: U.S. EPA, Great Lakes National Program Office, 77 W. Jackson Boulevard, G-17J, Chicago, Illinois, 60604. Comments may also be sent to Mr. Smith via facsimile at (312) 353-2018, or by e-mail smith.edwin@epa.gov.

FOR FURTHER INFORMATION CONTACT: Ted Smith, EPA-GLNPO, G-17J, 77 W. Jackson Blvd., Chicago, IL 60604 (312-353-6571/smith.edwin@epa.gov)

Dated: May 23, 2001.
Gary Gulezian,
Great Lakes National Program Director.

[FR Doc. 01-14081 Filed 6-04-01; 8:45 am]

BILLING CODE 6560-50-P